Title 3—

The President

Proclamation 7698 of September 1, 2003

National Alcohol and Drug Addiction Recovery Month, 2003

By the President of the United States of America

A Proclamation

Alcohol addiction and drug addiction continue to challenge our Nation. Addiction to alcohol or drugs destroys family ties, friendship, ambition, and moral conviction, and reduces the richness of life to a single destructive desire. During National Alcohol and Drug Addiction Recovery Month, we seek to remind all Americans, particularly those who struggle with alcohol or drug addiction, that recovery is possible. This year's theme, “Join the Voices of Recovery: Celebrating Health,” salutes the thousands of Americans currently striving to address their alcohol or drug addiction, and the many professionals, volunteers, clergy, community groups, friends, and family members who support others in overcoming addiction.

For the addicted, the fight is an ongoing struggle for their own lives. The process of treatment and recovery is personal, and each individual's treatment needs are different. And as a result, treatment programs must address a wide range of physical, mental, emotional, and spiritual needs. When properly tailored, alcohol and drug addiction treatment can be very effective.

Last year, approximately 100,000 individuals who sought treatment for alcohol and drug addiction were unable to receive the help they needed. To address this problem, I have proposed a new initiative, Access to Recovery, that will increase the availability and effectiveness of treatment programs. With $600 million, an additional 300,000 Americans will gain access to needed treatment over the next 3 years.

Access to Recovery will build on existing alcohol and drug treatment services by offering greater choices to those seeking treatment. Our Nation is blessed with many recovery programs that do exceptional work, and we must make these programs available to more people. By providing vouchers that enable those struggling with addiction to get help from a wide range of sources that work, including faith-based and community organizations, we will expand treatment options and accountability. This flexibility will strengthen our system and offer more hope to those in need.

My Administration has taken important steps to cut off illegal drug supplies and reduce demand through anti-drug education. For those who become addicted to drugs or to alcohol, my Administration is committed to tearing down the stigma attached to recovery so that more people will seek the help they need. Alcohol addiction and drug addiction are diseases that touch all Americans—young and old, rich and poor, male and female. As a Nation, we must continue our efforts to offer the best possible opportunities, settings, and approaches to prevent and treat alcohol and drug addiction. By caring for those who need treatment, we are building a more welcoming and compassionate culture that values every life.

NOW, THEREFORE, I, GEORGE W. BUSH, President of the United States of America, by virtue of the authority vested in me by the Constitution and laws of the United States, do hereby proclaim September 2003 as National Alcohol and Drug Addiction Recovery Month. I call upon all the people of the United States to observe this month with appropriate programs, ceremonies, and activities.

IN WITNESS WHEREOF, I have hereunto set my hand this first day of September, in the year of our Lord two thousand three, and of the Independence of the United States of America the two hundred and twenty-eighth.

B

[FR Doc. 03-22809

Filed 9-4-03; 8:45 am]

Billing code 3195-01-P